SMALL BUSINESS ADMINISTRATION

Federal Assistance to Provide Financial Counseling, Technical Assistance and Long-term Training to Women in the State of Vermont

AGENCY: U.S. Small Business Administration.

ACTION: Program Announcement No. OWBO-99-012, as amended by OWBO-2000-015.

SUMMARY: The Small Business Administration (SBA) plans to issue program announcement No. OWBO-99-012, as amended by OWBO-2000-15, to invite applications from private, not-for-profit organizations to conduct a Women's Business Center (WBC) project in the State of Vermont. The authorizing legislation is the Small Business Act, Section 29, 15 U.S.C. 631(h) and 656. The selection process is competitive. The successful applicant's WBC project will serve as a replacement for a previous project in the State of Vermont that ended after its 2nd year. The replacement WBC is to carry out a project for the remaining 3 years of a 5-year term.

The Women's Business Center project must provide long-term training, counseling and technical assistance to women who are in and starting businesses. Service and assistance areas must include financial, management, marketing, government procurement and loan packaging. The applicant must submit a plan for each remaining year of the project term, i.e., 7/01/02-06/30/03; 07/01/03-06/30/04; and 07/01/04-06/30/05. The applicant's proposal must include a scope of work and a budget not exceeding the Federal grant amount of $150,000 plus 100% match. Also, the proposal must include a plan to target women who are socially and economically challenged and a plan to contribute content and services to the SBA Online Women's Business Center web site at www.onlinewbc.gov.

SBA will issue an annual award to the successful recipient for each project year, without re-competition. The award recipient must provide non-Federal matching funds at 100%, i.e., one non-Federal dollar for each Federal dollar. At least half of the non-Federal match must be in cash. The remainder may be in the form of in-kind contributions.

DATES: SBA will mail program announcements to interested parties immediately, upon request. The opening date will be March 5, 2002 and the closing date will be April 11, 2002.

FOR FURTHER INFORMATION CONTACT: Denise Edmonds at (202) 205-6673 or denise.edmonds@sba.gov.

Wilma Goldstein,
Assistant Administrator, SBA/Office of Women's Business Ownership.

[FR Doc. 02-4352 Filed 2-22-02; 8:45 am]

BILLING CODE 8025-01-P